DEPARTMENT OF HEALTH AND HUMAN SERVICES

Centers for Medicare & Medicaid Services

42 CFR Part 418

[CMS-1286-CN2]

RIN 0938-AN89

Medicare Program; Hospice Wage Index for Fiscal Year 2006

AGENCY: Centers for Medicare & Medicaid Services (CMS), HHS.

ACTION: Final rule, correction.

SUMMARY: This document corrects technical errors that appeared in the final rule published in the Federal Register on August 4, 2005, entitled “Hospice Wage Index for Fiscal Year 2006.”

EFFECTIVE DATE: This notice is effective on October 1, 2005.

FOR FURTHER INFORMATION CONTACT: Terri Deutsch, (410) 786-9462.

SUPPLEMENTARY INFORMATION:

I. Background

On August 4, 2005, we published a final rule entitled, “Hospice Wage Index for Fiscal Year 2006 (Federal Register Doc. 05-15290, 70 FR 45130). On September 30, 2005, we published a correction notice (Federal Register Doc. 05-19609, 70 FR 57174) to correct a number of technical errors that had appeared in the final rule. Based on further review of the August 2005 final rule, we are correcting additional typographical and formatting errors that appeared in Table A and C of the addendum. Specifically, in Table A of the addendum, we are correcting the asterisk that corresponds to the footnotes that appear at the end of the table, as appropriate. We are correcting the wage index values for CBSA codes where the numerical numbers contained typographical errors or where numbers were transposed. In addition, in Table C of the addendum, we are correcting the wage index value figures for the CBSA code 24780, Pitt County, NC, and the CBSA code for 32820, Crittenden County, TN.

This correction notice is consistent with the published hospice wage index values used to make payment as of October 1, 2005. In section II below, we provide a description of the errors and the changes being made to correct the errors.

II. Correction of Errors

In FR Doc. 05-15290, published on August 4, 2005 (70 FR 45130), we are making the following corrections:

Table A—Hospice Wage Index for Urban Areas by CBSA

1. On page 45147, in the fourth column, in the 4th through 23rd entry, for CBSA code 12060, change the MSA code “520” to “0520”.

2. On page 45148, in the third column, in lines 37 through 39, for CBSA code 13980, remove the asterisk from the urban area county codes for “Montgomery, VA; Pulaski, VA; and Radford City, VA.”

3. On page 45149, in the first column, in the 10th entry, for CBSA code 6580, change the CBSA code “6580” to “16580.”

4. On page 45150—

A. In the fourth column, in the 15th entry, for CBSA code 17140, wage index 0.9207, urban area county code for Bracken, KY*, change the MSA code “14” to “18.”

B. In the third column, in the 15th entry from the bottom, for CBSA code 17980, change the urban area county “Russell, AL,” to “Russell, AL*.”

5. On page 45153—

A. In the fourth column, in the first entry, for CBSA code 22744, change the MSA code “2860” to “2680.”

B. In the third column, for CBSA code 23540 as previously corrected on September 30, 2005 (70 FR 57176) change the wage index number for Alachua, FL* from “0.9642” to “1.0033” and the wage index number for “Gilchrist, FL* from “1.0033” to “0.9642.”

C. In the second column, for CBSA code 24660, for urban area county code Randolph, NC*, remove the wage index number “0.9382” and add the wage index number “0.9382” to the urban area county code “Rockingham, NC*.”

6. On page 45160 as corrected on September 30, 2005 (70 FR 57176) in the second column—

A. In the second entry from the bottom, for the CBSA code 38540, change the wage index number for “Bannock, ID*” from “0.9773” to “1.0183.”

B. In the first entry from the bottom, for the CBSA code 38540, change the wage index number for “Power, ID*” from “1.0183” to “0.9773.”

Table C—Blended Hospice Wage Index Codes for Selected Areas

1. On page 45177, in the 6th column, in the 20th line, for the county name of Stanly, NC, change the special hospice wage index code “50192” to “50092.”

2. On page 45188, in the 7th column, in the 25th line from the bottom, for the county name Pitt, NC, change the wage index number “0.09740” to “0.9740.”

3. On page 45190, in the 7th column, in the 27th line, for the county name, Crittenden, TN, change the wage index number “0.09785” to “0.9785.”

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds that the notice and comment process is impracticable, unnecessary, or contrary to the public interest, and incorporates a statement of the finding and the reasons therefore in the notice.

The revisions contained in this rule correct formatting and typographical errors in various sections of Table A and Table C of the addendum. These corrections are necessary to ensure that the final rule accurately reflects the correct hospice wage index values. Since they are not substantive, but merely technical, we find that public comments on these revisions are both unnecessary and impracticable. Therefore, we find good cause to waive notice and comment procedures.

In addition, the Administrative Procedure Act (APA) normally requires a 30-day delay in the effective date of a final rule. Since this notice simply makes technical modifications to a final rule that has previously gone through notice-and-comment rulemaking and the corrections are only to formatting errors, we believe good cause also exists under the APA to waive the 30-day delay in the effective date.

Section 1871(e)(1)(A) of the Act, as amended by section 903(a) of Pub .L. 108-173, provides that a substantive change in regulations shall not be applied retroactively to items and services furnished before the effective date of the change, unless the Secretary finds that such retroactive application is necessary to comply with statutory requirements or failure to apply the change retroactively would be contrary to the public interest. Although this correction notice is retroactive, it makes no substantive changes, but only corrects minor technical errors. Failure to make these changes retroactive to October 1, 2005, is contrary to the public interest because the published wage index values do not match the actual wage index values utilized by CMS as of October 1, 2005. Actual payments made by CMS to hospice providers will not change. Therefore, we believe there is sufficient cause to make the corrections retroactive.

(Catalog of Federal Domestic Assistance Program No. 93.773, Medicare—Hospital Insurance; and Program No. 93.774, Medicare—Supplementary Medical Insurance Program)

Dated: December 12, 2005.
Ann C. Agnew,
Executive Secretary to the Department.

[FR Doc. 05-24288 Filed 12-22-05; 8:45 am]

BILLING CODE 4120-01-P